DEPARTMENT OF LABOR

Employment and Training Administration

[TA-W-85,475, TA-W-85,475A, TA-W-85,475B, et al.]

Amended Certification Regarding Eligibility To Apply for Worker Adjustment Assistance and Alternative Trade Adjustment Assistance

TA-W-85,475

Carl Zeiss Vision, Inc., Forest Park, Georgia.

TA-W-85,475A

Carl Zeiss Vision, Inc., including on-site leased workers from Adecco, Belflex, and Job Store, Hebron, Kentucky.

TA-W-85,475B

Carl Zeiss Vision, Inc., Nashville, Tennessee.

TA-W-85,475C

Carl Zeiss Vision, Inc., Roanoke, Virginia.

TA-W-85,475D

Carl Zeiss Vision, Inc., including on-site leased workers from Advantage Staffing, Sheldon, Iowa.

TA-W-85,475E

Carl Zeiss Vision, Inc., including on-site leased workers from Adams & Garth, Chester, Virginia.

TA-W-85,475F

Carl Zeiss Vision, Inc., Baltimore, Maryland.

TA-W-85,475G

Carl Zeiss Vision, Inc., including on-site leased workers from Aerotek, Tempe, Arizona.

TA-W-85,475H

Carl Zeiss Vision, Inc., Independence, Missouri.

In accordance with Section 223 of the Trade Act of 1974, as amended (“Act”), 19 U.S.C. § 2273, and Section 246 of the Trade Act of 1974 (26 U.S.C. 2813), the Department of Labor issued a Certification of Eligibility to Apply for Worker Adjustment Assistance and Alternative Trade Adjustment Assistance on August 26, 2014, applicable to workers of Carl Zeiss Vision, Inc., Forest Park, Georgia (TA-W-85,475), Carl Zeiss Vision, Inc., including on-site leased workers from Adecco, Belflex, and Job Store, Hebron, Kentucky (TA-W-85,475A), Carl Zeiss Vision, Inc., Nashville, Tennessee (TA-W-85,475B), Carl Zeiss Vision, Inc., Roanoke, Virginia (TA-W-85,475C), Carl Zeiss Vision, Inc., including on-site leased workers from Advantage Staffing, Sheldon, Iowa (TA-W-85,475D), and Carl Zeiss Vision, Inc., including on-site leased workers from Adams & Garth, Chester, Virginia (TA-W-85,475E). The Department's notice of determination was published in the Federal Register on September 11, 2014 (79 FR 54298—54299).

At the request of a State Workforce Office, the Department reviewed the certification for workers of the subject firm. The workers are engaged in activities related to the production of prescription eyeglass lenses and coatings.

The subject firm confirmed that worker separations from Carl Zeiss Vision, Inc., Baltimore, Maryland (TA-W-85,475F), Carl Zeiss Vision, Inc., Tempe, Arizona (TA-W-85,475G) and Carl Zeiss Vision, Inc., Independence, Missouri (TA-W-85,475H) were attributable to the same shift in production to a foreign country that was the basis for the certification. The worker group in Tempe, Arizona (TA-W-85,475G) includes on-site leased workers from Aerotek.

The amended notice applicable to TA-W-85,475 is hereby issued as follows:

All workers of Carl Zeiss Vision, Inc., Forest Park, Georgia (TA-W-85,475), Carl Zeiss Vision, Inc., including on-site leased workers from Adecco, Belflex, and Job Store, Hebron, Kentucky (TA-W-85,475A), Carl Zeiss Vision, Inc., Nashville, Tennessee (TA-W-85,475B), Carl Zeiss Vision, Inc., Roanoke, Virginia (TA-W-85,475C), Carl Zeiss Vision, Inc., including on-site leased workers from Advantage Staffing, Sheldon, Iowa (TA-W-85,475D), Carl Zeiss Vision, Inc., including on-site leased workers from Adams & Garth, Chester, Virginia (TA-W-85,475E), Carl Zeiss Vision, Inc., Baltimore, Maryland (TA-W-85,475F), Carl Zeiss Vision, Inc., including on-site leased workers from Aerotek, Tempe, Arizona (TA-W-85,475G) and Carl Zeiss Vision, Inc., Independence, Missouri (TA-W-85,475H), who became totally or partially separated from employment on or after August 8, 2013 through August 26, 2016, are eligible to apply for adjustment assistance under Section 223 of the Trade Act of 1974, and are also eligible to apply for alternative trade adjustment assistance under Section 246 of the Trade Act of 1974.

Signed in Washington, DC, this 23rd day of October 2014.
Michael W. Jaffe,
Certifying Officer, Office of Trade Adjustment Assistance.

[FR Doc. 2014-29315 Filed 12-15-14; 8:45 am]

BILLING CODE 4510-FN-P